NATIONAL SCIENCE FOUNDATION

National Science Board; Meeting

Agency Holding Meeting: National Science Foundation, National Science Board, Committee on Programs and Plans.

Date and Time: January 23, 2004 3:30 p.m. “ 4:30 p.m. Open Session Teleconference.

Place: The National Science Foundation, Stafford One Building, 4201 Wilson Boulevard, Room 130, Arlington, VA 22230.

Status: This meeting will be open to the public.

Matters To Be Considered:

Friday, January 23, 2004

Open Session (3:30 to 4:30 p.m.)

Discussion of the report by the National Academies on “Setting Priorities for Large Research Facility Projects supported by the National Science Foundation.”

FOR FURTHER INFORMATION CONTACT: Michael P. Crosby, Executive Officer, NSB, (703) 292-7000, www.nsf.gov/nsb.

Michael P. Crosby,
Executive Officer.

[FR Doc. 04-1244 Filed 1-15-04; 2:53 pm]

BILLING CODE 7555-01-P